DEPARTMENT OF JUSTICE

Antitrust Division

Notice Pursuant to the National Cooperative Reserach and Production Act of 1993—Ethernet in the First Mile Alliance

Notice is hereby given that, on July 26, 2004, pursuant to section 6(a) of the National Cooperative Research and Production Act of 1993, 15 U.S.C. 4301 et seq. (“the Act”), Ethernet in the First Mile Alliance (“EFMA”) has filed written notifications simultaneously with the Attorney General and the Federal Trade Commission disclosing changes in its membership status. The notifications were filed for the purpose of extending the Act's provisions limiting the recovery of antitrust plaintiffs to actual damages under specified circumstances. Specifically, Actelis Networks, Fremont, CA; Agilent Technologies, Santa Rosa, CA; Harbour Networks, Beijing, PEOPLE'S REPUBLIC OF CHINA; Tometrix, San Francisco, CA; and University of New Hampshire, InterOperabilty Lab, Durham, NH have been added as parties to this venture. Also, Alloptic, Inc., Livermore, CA; Analog Devices, Norwood MA; BATH Advanced Communications, Yokneam Ilit, ISRAEL; Broadcom, Irvine, CA; Calix, Petaluma, CA; Fiberintheloop, Marlow, UNITED KINGDOM; Finisar Corporation, Sunnyvale, CA; Harmonic, Inc., Sunnyvale, CA; Intel, Santa Clara, CA; National Semiconductor, Santa Clara, CA; Panasonic Semiconductor Dev. Co., San Jose, CA; Paradyne, Alpharetta, GA; Spirent Communications, Calabasas, CA; Texas Instruments, Dallas, TX; and World Wide Packets, Veradale, WA have been dropped as parties to this venture.

No other changes have been made in either the membership or planned activity of the group research project. Membership in this group research project remains open, and EFMA intends to file addiltional written notifications disclosing all changes in membership.

On January 16, 2002, EFMA filed its original notification pursuant to section 6(a) of the Act. The Department of Justice published a notice in the Federal Register pursuant to section 6(b) of the Act on March 8, 2002 (67 FR 10760).

The last notification was filed with the Department on September 3, 2002. A notice was published in the Federal Register pursuant to section 6(b) of the Act on October 25, 2002 (67 FR 65603).

Dorothy B. Fountain,
Deputy Director of Operations, Antitrust Division.

[FR Doc. 04-22165 Filed 10-1-04; 8:45 am]

BILLING CODE 4410-11-M